DEPARTMENT OF LABOR

Employment and Training Administration

Submission for OMB Review; Comment Request

AGENCY: Employment and Training Administration (ETA), Department of Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration is soliciting comments about the proposed new collection of information as part of the Evaluation of Labor Exchange Services in a One-Stop Environment. The evaluation is partially composed of three surveys: an employer survey, an in-office job seeker survey, and an in-office survey of workshop participants.

DATES: Written comments must be submitted to the office listed in the addresses's section below on or before September 23, 2002.

ADDRESSES: Richard Muller, Office of Policy and Research, ETA, N-5637, US Department of Labor, 200 Constitution Ave., NW. Washington, DC 20210, (202) 693-3680 (this is not a toll-free number), e-mail: RMULLER@DOLETA.GOV.

SUPPLEMENTARY INFORMATION:

I. Background

Public labor exchanges (PLEX) were last evaluated by ETA in 1983. At that time, obtaining basic information about job-seekers' and employers' use of state labor exchanges was relatively easy, given that nearly all job seekers filled out registration forms and could only get a referral after being screened by staff at local offices. Similarly, employers had to describe job openings and key characteristics to staff to obtain referrals. Moreover, cost information was available because Wagner-Peyser Act funds were allocated to each state based on a type of performance-based budgeting, called the balanced placement formula, designed to stimulate improvements in placement services by allocating grants to state agencies on the basis of their actual performance.

While special purpose block grants simplified distribution of Wagner-Peyser Act funds, the removal of the balanced formula eliminated the need to determine how costly it is for staff to perform various services, and also reduced incentives to carefully track delivery of individual services. Job seekers can now utilize large public databases, such as America's Job Bank (AJB), and every state labor exchange, by using PC modems at home, in libraries and a variety of other sites. The block grants and the easy access to electronic job information has greatly limited the amount of quantifiable data available to perform a comprehensive evaluation. In order to accurately measure the costs and benefits of PLEXs today, surveys of job seekers and employers are required to assess the quantity and quality of services provided.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarify of the information to be collected; and

* Minimize the burden of the collection of information on those who are to respond, including through the use of appropriate automated, electronic, mechanical, or other technological collection techniques or other forms of information technology, e.g., permitting electronic submissions of responses.

III. Current Actions

This study will examine the efficacy of labor exchange services in 6 States operating within selected State One-Stop delivery systems. The findings from the employer survey and in-office surveys will describe the results of mail surveys and follow-up telephone interviews with diverse employers, and will describe the experiences of job seekers. The study will provide, among other things, in-depth information on:

• The amount of hiring done at each establishment in a year;

• The methods used to obtain applicants for high and low paying jobs;

• Satisfaction with methods used to obtain applicants;

• The costs associated with hiring and recruitment efforts;

• The costs to the establishment for not filling various types of jobs; and

• How placements made from public labor exchanges affect recruiting and production costs.

Type of Review: New.

Agency: Employment and Training Administration.

Title: Evaluation of Labor Exchange Services in a One Stop Environment.

OMB Number: 1205-0NEW.

Affected Public: Individuals or households/Business or other for profit/Not for profit institutions/Farms/Federal Government/State, Local or Tribal Government.

Cite/reference | Total respondents per state | Frequency | Total responses per state | Average time per response per hour | Burden hours per state
Employer survey & reminders | 60 | Once + reminder cards for nonrespondents | 60 | .5 | 30
Telephone interview | 240 | Once | 240 | .75 | 180
In-office survey | 1200 | Once | 1200 | .25 | 300
Workshop survey | 1200 | Once | 1200 | .25 | 300
Totals |  |  |  |  | 810

Total Burden Cost: The total estimated cost of the study is $160,200 over a 36-month contract period, with a one-year option. Of the total costs, approximately 11 percent is allocated for surveys. The annualized cost of the surveys, over the 36 month period is approximately $53,400. The total burden in terms of time is 810 hours per State times 6 States, or 4860 hours.

Comments submitted in response to this comment request will be summarized and/or included in the request for Office of Management and Budget approval of the information collection request; they will also become a matter of public record.

Dated: July 18, 2002.
Gerard F. Fiala,
Administrator, Office of Policy and Research.

[FR Doc. 02-18876 Filed 7-24-02; 8:45 am]

BILLING CODE 4510-30-P